DEPARTMENT OF TREASURY

Office of the Comptroller of the Currency

12 CFR Part 14

[Docket No. OCC-2022-0004]

RIN 1557-AF16

Customer Assistance Group Change of Mailing Address

AGENCY: Office of the Comptroller of the Currency (OCC), Treasury.

ACTION: Final rule; technical amendment.

SUMMARY: The OCC is issuing this final rule; technical amendment to amend the consumer grievance process appendix in the Consumer Protection in Sales of Insurance regulations by removing an outdated mailing address for the OCC's Customer Assistance Group (CAG) and replacing it with the current mailing address.

DATES: The final rule is effective May 9, 2022.

FOR FURTHER INFORMATION CONTACT: Marta Stewart-Bates, Counsel, or Graham Bannon, Attorney, Chief Counsel's Office, (202) 649-5490, Office of the Comptroller of the Currency, 400 7th Street SW, Washington, DC 20219. If you are deaf, hard of hearing, or have a speech disability, please dial 7-1-1 to access telecommunications relay services.

SUPPLEMENTARY INFORMATION: On August 5, 2021, the OCC published Bulletin 2021-35, “Community Reinvestment Act, Fair Housing Act, and Equal Credit Opportunity Act: OCC Contact Information for Certain Notices and Posters,” ¹ which announced the new physical mailing address of the OCC's CAG, “P.O. Box 53570, Houston, TX 77052.” The previous CAG mailing address was 1301 McKinney Street, Suite 3450, Houston, Texas 77010-3031. The OCC's regulation in appendix A to 12 CFR part 14 sets forth a consumer grievance process that contains the previous mailing address for the OCC's CAG. This final rule amends appendix A to 12 CFR part 14 to remove the outdated CAG mailing address and replace it with the current CAG mailing address.

¹ https://occ.gov/news-issuances/bulletins/2021/bulletin-2021-35.html.

Administrative Law Matters

A. Administrative Procedure Act

The OCC is issuing this final rule without prior notice and the opportunity for public comment and without the 30-day delayed effective date ordinarily prescribed by the Administrative Procedure Act (APA).² Pursuant to section 553(b)(B) of the APA, general notice and the opportunity for public comment are not required with respect to a rulemaking when an “agency for good cause finds (and incorporates the finding and a brief statement of reasons therefor in the rules issued) that notice and public procedure thereon are impracticable, unnecessary, or contrary to the public interest.” ³

² 5 U.S.C. 553.

³ 5 U.S.C. 553(b)(B).

The OCC believes that there is good cause to issue this final rule without notice and public procedure because the rule makes a technical change to update a physical mailing address for the OCC's CAG and does not alter any substantive standard. Therefore, there is good cause to dispense with the APA prior notice and public comment process because it is unnecessary since the change of CAG's address in 12 CFR part 14 is a non-substantive, technical amendment to the OCC's rule.

The APA also requires a 30-day delayed effective date, except for (1) substantive rules which grant or recognize an exemption or relieve a restriction; (2) interpretative rules and statements of policy; or (3) as otherwise provided by the agency for good cause.⁴ The OCC finds good cause to publish this final rule with an immediate effective date because, as described above, this final rule merely reflects a change of address in existing regulations and does not alter any substantive standard.

⁴ 5 U.S.C. 553(d).

B. Use of Plain Language

Section 722 of the Gramm-Leach-Bliley Act ⁵ requires Federal banking agencies to use plain language in all proposed and final rules published after January 1, 2000. The OCC has sought to present this final rule in a simple and straightforward manner.

⁵ Public Law 106-102, section 722, 113 Stat. 1338, 1471 (1999).

C. Paperwork Reduction Act Analysis

In accordance with the requirements of the Paperwork Reduction Act of 1995 (PRA), 44 U.S.C. 3501-3521, the OCC may not conduct or sponsor, and a respondent is not required to respond to, an information collection unless it displays a currently-valid Office of Management and Budget (OMB) control number. The OCC has reviewed this final rule and determined that it does not introduce a new collection of information pursuant to the PRA.

D. Regulatory Flexibility Act Analysis

The Regulatory Flexibility Act (RFA) ⁶ requires an agency to consider whether the rules it proposes will have a significant economic impact on a substantial number of small entities.⁷ The RFA applies only to rules for which an agency publishes a general notice of proposed rulemaking pursuant to 5 U.S.C. 553(b). Consistent with section 553(b)(B) of the APA, the OCC has determined for good cause that general notice and opportunity for public comment is unnecessary because the rule makes a technical change to update a physical mailing address for the OCC's CAG and does not alter any substantive standard, and, therefore, the OCC is not issuing a notice of proposed rulemaking. Accordingly, the OCC has concluded that the RFA's requirements relating to initial and final regulatory flexibility analysis do not apply.

⁶ 5 U.S.C. 601 et seq.

⁷ Under regulations issued by the Small Business Administration, as of February 2021, a small entity includes a depository institution, bank holding company, or savings and loan holding company with total assets of $600 million or less and trust companies with total assets of $41.5 million or less. See 13 CFR 121.201.

E. Unfunded Mandates Reform Act of 1995

As a general matter, the Unfunded Mandates Reform Act of 1995 (UMRA) ⁸ requires the preparation of a budgetary impact statement before promulgating a rule that includes a Federal mandate that may result in the expenditure by State, local, and tribal governments, in the aggregate, or by the private sector, of $100 million or more in any one year. However, the UMRA does not apply to final rules for which a general notice of proposed rulemaking was not published.⁹ Consistent with section 553(b)(B) of the APA, the OCC has determined for good cause that general notice and opportunity for public comment is unnecessary because the rule makes a technical change to update a physical mailing address for the OCC's CAG and does not alter any substantive standard, and, therefore, the OCC is not issuing a notice of proposed rulemaking. Accordingly, the OCC has not prepared an economic analysis of the rule under the UMRA.

⁸ 2 U.S.C. 1531 et seq.

⁹ See 2 U.S.C. 1532(a).

F. Riegle Community Development and Regulatory Improvement Act of 1994

Pursuant to section 302(a) of the Riegle Community Development and Regulatory Improvement Act of 1994,¹⁰ in determining the effective date and administrative compliance requirements for new regulations that impose additional reporting, disclosure, or other requirements on insured depository institutions, the OCC must consider, consistent with the principles of safety and soundness and the public interest: (1) Any administrative burdens that the final rule places on depository institutions, including small depository institutions and customers of depository institutions, and (2) the benefits of the final rule. This final rule does not impose additional reporting, disclosure, or other requirements on an insured depository institution. Therefore, section 302(a) of the Riegle Community Development and Regulatory Improvement Act of 1994 does not apply to this final rule.

¹⁰ 12 U.S.C. 4802(a).

G. The Congressional Review Act

Before a rule can take effect, the Congressional Review Act (CRA), 5 U.S.C. 801 et seq., provides that the OCC must submit to Congress and to the Comptroller General the rule along with a report indicating whether it is a “major rule.” In general, if a rule is a “major rule,” the CRA provides that unless Congress enacts a joint resolution of disapproval, the rule takes effect the later of: (1) 60 Days after Congress receives the required report or publication of the rule in the Federal Register, whichever is later; or (2) the date the rule would otherwise take effect.¹¹ The CRA defines a “major rule” as any rule that the Administrator of the Office of Information and Regulatory Affairs (OIRA) of the Office of Management and Budget finds has resulted in or is likely to result in (1) an annual effect on the economy of $100,000,000 or more; (2) a major increase in costs or prices for consumers, individual industries, Federal, State, or local government agencies, or geographic regions, or (3) a significant adverse effect on competition, employment, investment, productivity, innovation, or the ability of United States-based enterprises to compete with foreign-based enterprises in domestic and export markets.¹²

¹¹ 5 U.S.C. 801(a)(3).

¹² 5 U.S.C. 804(2).

OIRA has determined that this final rule is not a major rule. As required by the CRA, the OCC will submit the final rule and other appropriate reports to Congress and the Government Accountability Office for review.

List of Subjects in 12 CFR Part 14

Banks, banking, Consumer protection, Insurance, National banks, Reporting and recordkeeping requirements.

Office of the Comptroller of the Currency

For the reasons set out in the preamble, 12 CFR part 14 is amended as follows:

PART 14—CONSUMER PROTECTION IN SALES OF INSURANCE

1. The authority citation for part 14 continues to read as follows:

Authority: 12 U.S.C. 1 et seq., 24(Seventh), 92, 93a, 1462a, 1463, 1464, 1818, 1831x, and 5412(b)(2)(B).

2. Appendix A to part 14 is revised to read as follows:

Appendix A to Part 14—Consumer Grievance Process

Any consumer who believes that any bank, Federal savings association, or any other person selling, soliciting, advertising, or offering insurance products or annuities to the consumer at an office of the bank or Federal savings association, or on behalf of the bank or Federal savings association, has violated the requirements of this part should contact the Customer Assistance Group, Office of the Comptroller of the Currency, (800) 613-6743, P.O. Box 53570, Houston, TX 77052, or www.helpwithmybank.gov.

Benjamin W. McDonough,
Senior Deputy Comptroller and Chief Counsel, Office of the Comptroller of the Currency.

[FR Doc. 2022-09860 Filed 5-6-22; 8:45 am]

BILLING CODE 4810-33-P